DEPARTMENT OF ENERGY

Federal Energy Regulatory Commission

[Docket No. IC01-721-001, FERC-721]

Public Information Collection Approved by the Office of Management and Budget

September 20, 2001.

AGENCY: Federal Energy Regulatory Commission, DOE.

ACTION: Notice.

SUMMARY: The Federal Energy Regulatory Commission (Commission) has received Office of Management and Budget (OMB) approval for the following public information collection pursuant to the requirements of Section 3507(j)(1)of the Paperwork Reduction Act of 1995 (Pub. L. No.104-13), and 5 CFR 1320.13 of OMB's regulations. An agency may not conduct or sponsor and a person is not required to respond to a collection of information unless it displays a currently valid control number.

FOR FURTHER INFORMATION CONTACT: Jack Silverman, Office of the General Counsel, (legal), (202)208-2078; Joseph Cholka, Office of Markets Tariffs and Rates, (technical), (202)208-2414; Michael Miller, Office of the Chief Information Officer, (information policy), (202)208-1415; Federal Energy Regulatory Commission, 888 First Street NE., Washington, DC 20426.

OMB Control No.: 1902-0187.

Expiration Date: 01/31/2002.

Title: Reporting of Natural Gas Sales to California.

Respondents: Businesses or other for -profit.

Estimated annual burden: 89 Respondents; 208 hours per response (avg.); 534 responses; 19,847 total hours.

Estimated Annual Reporting and/or Recordkeeping cost: $2,2334,570.

Frequency of Response: Monthly.

Obligation to Respond: Mandatory.

SUPPLEMENTARY INFORMATION: On July 25, 2001, (66 FR 40245-81, August 2, 2001) the Commission issued an Order in Docket No. RM01-09-000 imposing reporting requirements for natural gas sales to and in the California market. The reporting requirements are being implemented as a result of comments in response to an earlier order of May 18, 2001 (66 FR29121-24, May 29, 2001) issued after the filing of several complaints with the Commission on the price increases of natural gas in California. The prices in California rose dramatically and exceeded the increases in other markets. FERC-721 is intended to provide the Commission with the necessary information to determine what action if any, it should take within its jurisdiction, with respect to the price of natural gas sold in the California market. The Commission intends to collect information on the volumes, and prices of sales to the California market including transportation rates, the daily operational capacity of pipelines to, and in the California market, and the actual volumes flowing to, and in California, plus gas sales and transportation requirements of local distribution companies.

The information is to assist the Commission in carrying out its regulatory responsibilities. First, it will help the Commission determine what part of the problem, if any, is within the scope of its jurisdiction. The information proposed to be collected will give the Commission an accurate picture of overall average gas costs being incurred by all purchasers of natural gas moving into the California market. The information to be collected will also enable the Commission to determine the extent to which the cost of interstate transportation, which is subject to the Commission's jurisdiction, affects the price for the gas commodity at the California border.

Accordingly, because the Commission requires the information as soon as possible, the Commission will require submission of the information on a monthly basis, to be submitted 30 days after the end of each month, for the six months commencing August 1, 2001 and ending January 31, 2002. The first report will be due October 1, 2001.

As indicated in both the July 25 order and in its request for emergency processing and OMB approval, the Commission stated that it would undertake a separate action to request OMB approval to extend the reporting period to September 30, 2002, to coincide with the termination of the Commission's June 19, 2001 California electric power mitigation order. In its approval of the Commission's request for emergency processing, OMB stated several conditions that would have to be met before a submission was made to extend the reporting requirements. These conditions have been listed below to inform the public. They are as follows:

Terms of Clearance

The FERC Information Collection Request, titled “Reporting of Natural Gas Sales to the California Market,” is approved through 1/31/02. Should FERC decide to resubmit the ICR for renewal, it must address the practical utility and burden issues described below. FERC should include an explicit discussion of the way in which it addresses these issues as part of its supporting statement.

(1) Practical Utility: The order requires detailed transaction information on gas sales to California—that is, a daily reporting of price and quantity for each component of gas sold to the California market. Several commenters have reported that they do not maintain the data in a way that allows them to disaggregate price/quantity information in this way. Based on the comments, we are concerned that this data collection would require significant data manipulation by the industry in order to respond to the request. The resulting disaggregation is likely to be artificial—and therefore not reliable for individual transactions—and respondents are likely to vary in their choice of method for disaggregating transactions * * * Given the potential data quality problems associated with disaggregated reporting and the questionable need for the disaggregated data, we are concerned that such data may have little practical utility. Should FERC decide to resubmit the ICR for renewal, it should justify its decision to continue to require reporting at a disaggregated level.

(2) Burden: Commenters also believe FERC has significantly underestimated the burden. In particular, the commenters indicated that they would likely have to hire additional staff in order to respond to the data request because of the significant manipulation required to provide data in the format FERC is requesting. After consulting with respondents, FERC should evaluate its burden estimates for reporting and recordkeeping requirements. FERC should provide a list of the names, affiliations, and phone numbers of the respondents it contacted.

Document Availability

The data templates for FERC-721 are available as Excel spreadsheets on the Commission's website under “Bulk Power Markets”, “Order Imposing Reporting Requirements on Natural Gas Sales to California Market, RM01-9, issued 7/25/01”, http://www.ferc.gov/electric/bulkpower.htm.

David P. Boergers,
Secretary.

[FR Doc. 01-24016 Filed 9-25-01; 8:45 am]

BILLING CODE 6717-01-P